SMALL BUSINESS ADMINISTRATION

[Disaster Declaration #13445 and #13446]

Puerto Rico Disaster #PR-00018

AGENCY: U.S. Small Business Administration.

ACTION: Notice.

SUMMARY: This is a notice of an Administrative declaration of a disaster for the Commonwealth of Puerto Rico dated 01/10/2013.

Incident: Tropical Storm Sandy.

Incident Period: 10/25/2012 through 10/26/2012.

Effective Date: 01/10/2013.

Physical Loan Application Deadline Date: 03/11/2013.

Economic Injury (EIDL) Loan Application Deadline Date: 10/10/2013.

ADDRESSES: Submit completed loan applications to: U.S. Small Business Administration, Processing and Disbursement Center, 14925 Kingsport Road Fort, Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Municipalities: Guayanilla.

Contiguous Municipalities:

Puerto Rico: Adjuntas; Penuelas; Yauco.

The Interest Rates are:

| Percent
For Physical Damage:
Homeowners With Credit Available Elsewhere | 3.375
Homeowners Without Credit Available Elsewhere | 1.688
Businesses With Credit Available Elsewhere | 6.000
Businesses Without Credit Available Elsewhere | 4.000
Non-Profit Organizations With Credit Available Elsewhere | 3.125
Non-Profit Organizations Without Credit Available Elsewhere | 3.000
For Economic Injury:
Businesses & Small Agricultural Cooperatives Without Credit Available Elsewhere | 4.000
Non-Profit Organizations Without Credit Available Elsewhere | 3.000

The number assigned to this disaster for physical damage is 13445 8 and for economic injury is 13446 0.

The Commonwealth which received an EIDL Declaration # is Puerto Rico.

(Catalog of Federal Domestic Assistance Numbers 59002 and 59008)

Dated: January 10, 2013.
Karen G. Mills,
Administrator.

[FR Doc. 2013-01212 Filed 1-22-13; 8:45 am]

BILLING CODE 8025-01-P